DEPARTMENT OF TRANSPORTATION

Federal Aviation Administration

14 CFR Part 39

[Docket No. FAA-2005-23250; Directorate Identifier 2005-NM-150-AD; Amendment 39-14635; AD 2006-12-10]

RIN 2120-AA64

Airworthiness Directives; Boeing Model 747-400 Series Airplanes

AGENCY: Federal Aviation Administration (FAA), Department of Transportation (DOT).

ACTION: Final rule.

SUMMARY: The FAA is adopting a new airworthiness directive (AD) for certain Boeing Model 747-400 series airplanes. This AD requires inspecting the support bracket of the crew oxygen cylinder installation to determine the manufacturing date marked on the support, and performing corrective action if necessary. This AD results from a report indicating that certain oxygen cylinder supports may not have been properly heat-treated. We are issuing this AD to prevent failure of the oxygen cylinder support under the most critical flight load conditions, which could cause the oxygen cylinder to come loose and leak oxygen. Leakage of oxygen could result in oxygen being unavailable for the flightcrew or could result in a fire hazard in the vicinity of the leakage.

DATES: This AD becomes effective July 17, 2006.

The Director of the Federal Register approved the incorporation by reference of a certain publication listed in the AD as of July 17, 2006.

ADDRESSES: You may examine the AD docket on the Internet at http://dms.dot.gov or in person at the Docket Management Facility, U.S. Department of Transportation, 400 Seventh Street SW., Nassif Building, Room PL-401, Washington, DC.

Contact Boeing Commercial Airplanes, P.O. Box 3707, Seattle, Washington 98124-2207, for service information identified in this AD.

FOR FURTHER INFORMATION CONTACT: Susan Letcher, Aerospace Engineer, Cabin Safety and Environmental Systems Branch, ANM-150S, FAA, Seattle Aircraft Certification Office, 1601 Lind Avenue, SW., Renton, Washington 98055-4056; telephone (425) 917-6474; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 747-400 series airplanes. That NPRM was published in the Federal Register on December 9, 2005 (70 FR 73171). That NPRM proposed to require inspecting the support bracket of the crew oxygen cylinder installation to determine the manufacturing date marked on the support, and performing corrective action if necessary.

Comments

We provided the public the opportunity to participate in the development of this AD. We have considered the comments received.

Request To Revise Estimated Costs of Compliance

Boeing requests that we revise the estimated Costs of Compliance stated in the NPRM to include the work hours needed for replacing any support bracket of the crew oxygen cylinder having a manufacturing date that is within a certain range, and for testing following such replacement. Boeing notes that the NPRM included the estimated cost of the inspection only.

We do not agree. The economic analysis of an AD is limited to the cost of actions that are actually required. The economic analysis does not consider the costs of conditional actions, such as corrective actions (e.g., replacing a support having an affected manufacturing date with a new support). Such conditional action would be required—regardless of AD direction—to correct an unsafe condition identified in an airplane and to ensure that the airplane is operated in an airworthy condition, as required by the Federal Aviation Regulations. We have not changed the AD in this regard.

Request To Refer to Replacement

Boeing also requests that we revise the “title section” or “header section” to refer to “Inspection/Replacement” in lieu of “Inspection.” The commenter states that the required action is not only to inspect to determine the manufacturing date marked on the support bracket of the crew oxygen cylinder, but also to replace certain support assemblies.

We do not agree that any change to the AD is needed with regard to this request. We are unable to determine what section of the AD that the commenter is requesting be changed. We note that the Summary section of the NPRM states that the proposed AD would require “inspecting the support bracket of the crew oxygen cylinder installation to determine the manufacturing date marked on the support, and performing corrective action if necessary.” We also note that the Relevant Service Information section of the NPRM refers to the same actions and further explains that “The corrective action is replacing, with a new support, any support with a manufacturing date that is within a certain range.” The heading of paragraph (f) of the NPRM (and this AD) describe the actions in paragraph (f) as an “Inspection and Corrective Action,” and the requirements of that paragraph are consistent with the actions described in the Summary and Relevant Service Information sections of the NPRM. Since all of these sections refer, at minimum, to an inspection and corrective action, we find no section of this AD needs to be made more specific. Thus we have not changed the AD in this regard.

Conclusion

We have carefully reviewed the available data, including the comments received, and determined that air safety and the public interest require adopting the AD as proposed.

Costs of Compliance

There are about 70 airplanes of the affected design in the worldwide fleet. This AD will affect about 15 airplanes of U.S. registry. The required inspection will take about 1 work hour per airplane, at an average labor rate of $65 per work hour. Based on these figures, the estimated cost of this AD for U.S. operators is $975, or $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-12-10 Boeing: Amendment 39-14635. Docket No. FAA-2005-23250; Directorate Identifier 2005-NM-150-AD.

Effective Date

(a) This AD becomes effective July 17, 2006.

Affected ADs

(b) None.

Applicability

(c) This AD applies to Boeing Model 747-400 series airplanes, certificated in any category, as identified in Boeing Special Attention Service Bulletin 747-35-2114, dated December 19, 2002.

Unsafe Condition

(d) This AD results from a report indicating that certain oxygen cylinder supports may not have been properly heat-treated. We are issuing this AD to prevent failure of the oxygen cylinder support under the most critical flight load conditions, which could cause the oxygen cylinder to come loose and leak oxygen. Leakage of oxygen could result in oxygen being unavailable for the flightcrew or could result in a fire hazard in the vicinity of the leakage.

Compliance

(e) You are responsible for having the actions required by this AD performed within the compliance times specified, unless the actions have already been done.

Inspection and Corrective Action

(f) Within 18 months after the effective date of this AD, except as provided by paragraph (g) of this AD: Inspect the support bracket of the crew oxygen cylinder installation to determine the manufacturing date marked on the support, and do the corrective action as applicable, by doing all of the actions in accordance with the Accomplishment Instructions of Boeing Special Attention Service Bulletin 747-35-2114, dated December 19, 2002. Corrective action, if applicable, must be done before further flight after the inspection.

(g) If the configuration of the crew oxygen cylinder installation is changed from a one-cylinder to a two-cylinder configuration: Do the actions required by paragraph (f) of this AD before further flight after the change in configuration, or within 18 months after the effective date of this AD, whichever is later.

Parts Installation

(h) On or after the effective date of this AD, no person may install an oxygen cylinder support bracket having part number 65B68258-2 and having a manufacturing date between 10/01/98 and 03/09/01 inclusive (meaning, a manufacturing date of 10/01/98 or later and 03/09/01 or earlier).

Alternative Methods of Compliance (AMOCs)

(i)(1) The Manager, Seattle Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(j) You must use Boeing Special Attention Service Bulletin 747-35-2114, dated December 19, 2002, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 31, 2006.
Kalene C. Yanamura,
Acting Manager, Transport Airplane Directorate, Aircraft Certification Service.

[FR Doc. 06-5209 Filed 6-9-06; 8:45 am]

BILLING CODE 4910-13-P